DEPARTMENT OF HEALTH AND HUMAN SERVICES

Centers for Disease Control and Prevention

Disease, Disability, and Injury Prevention and Control Special Emphasis Panels (SEP): The Small Business Innovation Research (SBIR) 020, “New Laboratory Tests for Tuberculosis and Detection of Drug Resistance” and SRIB 021, “Development of Novel Information System for Remote Tuberculosis Control and Prevention”

In accordance with Section 10(a)(2) of the Federal Advisory Committee Act (Pub. L. 92-463), the Centers for Disease Control and Prevention (CDC) announces the aforementioned meeting.

Times and Dates: 1 p.m.-2 p.m., March 30, 2007 (Closed). 2 p.m.-4 p.m., March 30, 2007 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to The Small Business Innovation Research (SBIR) 020, “New Laboratory Tests for Tuberculosis and Detection of Drug Resistance” and SRIB 021, “Development of Novel Information System for Remote Tuberculosis Control and Prevention.”

Contact Person for More Information: J. Felix Rogers, PhD, M.P.H., Scientific Review Administrator, Coordinating Center for Infectious Diseases, National Center for Immunization and Respiratory Diseases, Office of the Director, CDC, 1600 Clifton Road NE., Mailstop E05, Atlanta, GA 30333, Telephone 404.639.6101.

The Director, Management Analysis and Services Office, has been delegated the authority to sign Federal Register notices pertaining to announcements of meetings and other committee management activities, for both CDC and the Agency for Toxic Substances and Disease Registry.

Dated: February 15, 2007.
Elaine L. Baker,
Acting Director, Management Analysis and Services Office, Centers for Disease Control and Prevention.

[FR Doc. E7-3102 Filed 2-22-07; 8:45 am]

BILLING CODE 4163-18-P